DEPARTMENT OF ENERGY

Federal Energy Regulatory Commission

[Docket No. CP05-371-000]

Southern Star Central Gas Pipeline, Inc.; Notice of Application

June 10, 2005.

On June 9, 2005, Southern Star Central Gas Pipeline, Inc. (Southern Star), pursuant to section 3 of the Natural Gas Act (NGA), and part 157 of the regulations of the Federal Energy Regulatory Commission (Commission) filed an abbreviated application for abandonment by sale to Keystone Gas Corporation (Keystone) of Southern Star's Mulhall-Drumright line consisting of approximately 46.4 miles of 12 and 16-inch diameter steel pipe and appurtenances located in Creek, Payne, and Logan Counties of Oklahoma. Southern Star also requested a jurisdictional determination exempting the facilities operation from NGA jurisdiction following the sale.

Southern Star states that the facilities were originally constructed in 1947 to support Southern Star's former merchant function and provide mainline transmission, but in more recent years has only served to gather gas from local producers and provide limited gas service to various parties along the system, which will continue upon the transfer of facilities to Keystone, as more fully described in the application. This filing is available for review at the Commission or may be viewed on the Commission's Web site at http://www.ferc.gov, by using the eLibrary (FERRIS) link. Enter the docket number excluding the last three digits in the docket number filed to access the document. For assistance, please contact FERC Online Support at FERC OnlineSupport@ferc.gov or call toll-free at (866) 206-3676, or for TTY, contact (202) 502-8659.

Questions concerning the application may be directed to: David N. Roberts, Manager, Regulatory Affairs, Southern Star Central Gas Pipeline, Inc., 4700 Highway 56, Owensboro, KY 42301 or call (270) 852-4654; and, Beverly H. Griffith, Senior Vice President, General Counsel and Corporate Secretary, Southern Star Central Gas Pipeline, Inc., 4700 Highway 56, Owensboro, KY 42301 or call 270 852-4940.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link. The Commission strongly encourages intervenors to file electronically.

Comment Date: July 1, 2005.

Magalie R. Salas,
Secretary.

[FR Doc. E5-3101 Filed 6-16-05; 8:45 am]

BILLING CODE 6717-01-P